DEPARTMENT OF TRANSPORTATION

National Highway Traffic Safety Administration

[Docket No. NHTSA-02-13409]

Highway Safety Programs; Model Specifications for Devices To Measure Breath Alcohol

AGENCY: National Highway Traffic Safety Administration, DOT.

ACTION: Notice.

SUMMARY: This notice amends the Conforming Products List for instruments that conform to the Model Specifications for Evidential Breath Testing Devices (58 FR 48705).

EFFECTIVE DATE: October 3, 2002.

FOR FURTHER INFORMATION CONTACT: Dr. James F. Frank, Research and Technology Office, Behavioral Research Division (NTI-131), National Highway Traffic Safety Administration, 400 Seventh Street, SW., Washington, DC 20590; Telephone: (202) 366-5593.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices, and published a Conforming Products List (CPL) of instruments that were found to conform to the Model Specifications as Appendix D to that notice (49 FR 48864).

On September 17, 1993, NHTSA published a notice (58 FR 48705) to amend the Model Specifications. The notice changed the alcohol concentration levels at which instruments are evaluated, from 0.000, 0.050, 0.101, and 0.151 BAC, to 0.000, 0.020, 0.040, 0.080, and 0.160 BAC; added a test for the presence of acetone; and expanded the definition of alcohol to include other low molecular weight alcohols including methyl or isopropyl. On July 21, 2000, the most recent amendment to the Conforming Products List (CPL) was published (65 FR 45419), identifying those instruments found to conform with the Model Specifications.

Since the last publication of the CPL, seven (7) instruments have been evaluated and found to meet the model specifications, as amended on September 17, 1993, for mobile and non-mobile use. In alphabetical order by company, they are: (1) Alert J4X.ec manufactured by Alcohol Countermeasure Systems, Inc. of Mississauga, Ontario, Canada. This is a hand held device that uses a fuel cell sensor and is powered by an internal battery. (2) Intoxilyzer 8000 manufactured by CMI, Inc. of Owensboro, KY. This is a non-dispersive infrared device which uses the 3.4 micron and the 9 micron band for measurement of alcohol. It is powered by 120 volts AC power or by 12 volts DC power from a car battery. (3) Intoxilyzer S-D5 manufactured by CMI, Inc. of Owensboro, KY. This device is a hand-held device that uses a fuel cell sensor. (4) The new Alco-Sensor III with serial numbers above 1,200,000. This is an enhanced version of the earlier Alco-Sensor III. The enhanced version has a new fuel cell and a microprocessor that improves performance. It is a hand held device intended for stationary or roadside operations. As indicated, it uses a fuel cell sensor and is powered by an internal battery. (5) The Intox EC/IR 2 manufactured by Intoximeters, Inc. of St. Louis, Missouri. This is a bench top device intended primarily for use in stationary operations. It uses a fuel cell sensor and can be powered by either 110 volts AC or 9 volts DC power sources. (6) The FC 10, manufactured by Lifeloc Technologies, Inc. of Wheat Ridge, CO. This is a handheld device that uses a fuel cell sensor. (7) The FC 20, also manufactured by Lifeloc Technologies, Inc. of Wheat Ridge, CO. This is also a handheld device that uses a fuel cell sensor. The Lifeloc FC 20 is similar to the FC 10 except that it has additional features that are not addressed by the model specifications.

Finally, three devices are being removed from the CPL, because they are no longer manufactured and are no longer in use. They are: (1) Alco.Tector Model 500, manufactured by Decator Electronics of Decator, Illinois. This device was introduced more than 30 years ago. It has not been manufactured for at least 20 years, and its manufacturer is no longer in existence. It would be impossible to repair because replacement parts are not available. The agency has no knowledge of any such devices in use. (2) The AE-D1 manufactured by Lion Laboratories, Ltd. of Cardiff, Wales, UK. The manufacturer has confirmed in writing that this unit is totally obsolete, no longer in use and no longer in production. (3) The Auto-Alcolmeter manufactured by Lion Laboratories, Ltd. of Cardiff, Wales, UK. The manufacturer has also confirmed in writing that this unit is totally obsolete, no longer in use and no longer in production.

The CPL has been amended to add the seven instruments identified above to the list, and to remove the three instruments also identified above.

In accordance with the foregoing, the CPL is therefore amended, as set forth below.

Conforming Products List of Evidential Breath Measurement Devices
Manufacturer and model | Mobile | Nonmobile
Alcohol Countermeasure Systems Corp., Mississauga, Ontario, Canada:
Alert J3AD* | X | X
Alert J4X.ec | X | X
PBA3000C | X | X
BAC Systems, Inc., Ontario, Canada: Breath Analysis Computer* | X | X
CAMEC Ltd., North Shields, Tyne and Ware, England: IR Breath Analyzer* | X | X
CMI, Inc., Owensboro, KY:
Intoxilyzer Model:
200 | X | X
200D | X | X
300 | X | X
400 | X | X
400PA | X | X
1400 | X | X
4011* | X | X
4011A* | X | X
4011AS* | X | X
4011AS-A* | X | X
4011AS-AQ* | X | X
4011 AW* | X | X
4011A27-10100* | X | X
4011A27-10100 with filter* | X | X
5000 | X | X
5000 (w/Cal. Vapor Re-Circ.) | X | X
5000 (w/3/8″ ID Hose option) | X | X
5000CD | X | X
5000CD/FG5 | X | X
5000EN | X | X
5000 (CAL DOJ) | X | X
5000VA | X | X
8000 | X | X
PAC 1200* | X | X
S-D2 | X | X
S-D5 | X | X
Draeger Safety, Inc., Durango, CO:
Alcotest Model:
7010* | X | X
7110* | X | X
7110 MKIII | X | X
7110 MKIII-C | X | X
7410 | X | X
7410 Plus | X | X
Breathalyzer Model:
900* | X | X
900A* | X | X
900BG* | X | X
7410 | X | X
7410-II | X | X
Gall's Inc., Lexington, KY: Alcohol Detection System-A.D.S. 500 | X | X
Intoximeters, Inc., St. Louis, MO:
Photo Electric Intoximeter* |  | X
GC Intoximeter MK II* | X | X
GC Intoximeter MK IV* | X | X
Auto Intoximeter* | X | X
Intoximeter Model:
3000* | X | X
3000 (rev B1)* | X | X
3000 (rev B2)* | X | X
3000 (rev B2A)* | X | X
3000 (rev B2A) w/FM option* | X | X
3000 (Fuel Cell)* | X | X
3000 D* | X | X
3000 DFC* | X | X
Alcomonitor |  | X
Alcomonitor CC | X | X
Alco-Sensor III | X | X
Alco-Sensor III (Enhanced with Serial Numbers above 1,200,000) | X | X
Alco-Sensor IV | X | X
Alco-Sensor IV-XL | X | X
Alco-Sensor AZ | X | X
RBT-AZ | X | X
RBT III | X | X
RBT III-A | X | X
RBT IV | X | X
RBT IV with CEM (cell enhancement module) | X | X
Intox EC/IR | X | X
Intox EC/IR 2 | X | X
Portable Intox EC/IR | X | X
Komyo Kitagawa, Kogyo, K.K.:
Alcolyzer DPA-2* | X | X
Breath Alcohol Meter PAM 101B* | X | X
Lifeloc Technologies, Inc., (formerly Lifeloc, Inc.), Wheat Ridge, CO:
PBA 3000B | X | X
PBA 3000-P* | X | X
PBA 3000C | X | X
Alcohol Data Sensor | X | X
Phoenix | X | X
FC 10 | X | X
FC 20 | X | X
Lion Laboratories, Ltd., Cardiff, Wales, UK:
Alcolmeter Model:
300 | X | X
400 | X | X
SD-2* | X | X
EBA* | X | X
Intoxilyzer Model:
200 | X | X
200D | X | X
1400 | X | X
5000 CD/FG5 | X | X
5000 EN | X | X
Luckey Laboratories, San Bernadino, CA:
Alco-Analyzer Model:
1000* |  | X
2000* |  | X
National Draeger, Inc., Durango, CO:
Alcotest Model:
7010* | X | X
7110* | X | X
7110 MKIII | X | X
7110 MKIII-C | X | X
7410 | X | X
7410 Plus | X | X
Breathalyzer Model:
900* | X | X
900A* | X | X
900BG* | X | X
7410 | X | X
7410-II | X | X
National Patent Analytical Systems, Inc., Mansfield, OH:
BAC DataMaster (with or without the Delta-1 accessory) | X | X
BAC Verifier Datamaster (with or without the Delta-1 accessory) | X | X
DataMaster cdm (with or without the Delta-1 accessory) | X | X
Omicron Systems, Palo Alto, CA:
Intoxilyzer Model:
4011* | X | X
4011AW* | X | X
Plus 4 Engineering, Minturn, CO: 5000 Plus4* | X | X
Seres, Paris, France:
Alco Master | X | X
Alcopro | X | X
Siemans-Allis, Cherry Hill, NJ:
Alcomat* | X | X
Alcomat F* | X | X
Smith and Wesson Electronics, Springfield, MA:
Breathalyzer Model:
900* | X | X
900A* | X | X
1000* | X | X
2000* | X | X
2000 (non-Humidity Sensor)* | X | X
Sound-Off, Inc., Hudsonville, MI:
AlcoData | X | X
Seres Alco Master | X | X
Seres Alcopro | X | X
Stephenson Corp.:
Breathalyzer 900* | X | X
U.S. Alcohol Testing, Inc./Protection Devices, Inc., Rancho Cucamonga, CA:
Alco-Analyzer 1000 |  | X
Alco-Analyzer 2000 |  | X
Alco-Analyzer 2100 | X | X
Verax Systems, Inc., Fairport, NY:
BAC Verifier* | X | X
BAC Verifier Datamaster | X | X
BAC Verifier Datamaster II* | X | X
* Instruments marked with an asterisk (*) meet the Model Specifications detailed in 49 FR 48854 (December 14, 1984) (i.e., instruments tested at 0.000, 0.050, 0.101, and 0.151 BAC.) Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

(23 U.S.C. 402; delegations of authority at 49 CFR 1.50 and 501.1)
Issued on: September 27, 2002.
Marilena Amoni,
Associate Administrator for Program Development and Delivery.

[FR Doc. 02-25185 Filed 10-2-02; 8:45 am]

BILLING CODE 4910-59-P